DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2019, through July 31, 2019. This list provides the name of petitioner, city and state of vaccination (if unknown then city and state of person or attorney filing claim), and case number. In cases where the Court has redacted the name of a petitioner and/or the case number, the list reflects such redaction. Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: August 20, 2019.
Thomas J. Engels,
Acting Administrator.

List of Petitions Filed

1. Jeremy Batten, Dayton, Nevada, Court of Federal Claims No: 19-0950V

2. Craig Siefker, Tallahassee, Florida, Court of Federal Claims No: 19-0951V

3. Donna Bell, Wakefield, Rhode Island, Court of Federal Claims No: 19-0952V

4. Philip Meyer, Bloomington, Illinois, Court of Federal Claims No: 19-0955V

5. Sally Irwin, Wailuku, Hawaii, Court of Federal Claims No: 19-0956V

6. Philip Crowley, Natick, Massachusetts, Court of Federal Claims No: 19-0957V

7. Patricia S. Tiedeman, Evans, Georgia, Court of Federal Claims No: 19-0959V

8. Wilian Machado, Orlando, Florida, Court of Federal Claims No: 19-0960V

9. Edward Taylor, Fort Worth, Texas, Court of Federal Claims No: 19-0961V

10. Paul Hopper, Sandy, Utah, Court of Federal Claims No: 19-0962V

11. Cynthia Sames, San Diego, California, Court of Federal Claims No: 19-0963V

12. Jacqueline Rice-McKenzie, Pearland, Texas, Court of Federal Claims No: 19-0964V

13. Gerald Granstaff, Perry, Georgia, Court of Federal Claims No: 19-0965V

14. Charles Dechene, Dallas, Texas, Court of Federal Claims No: 19-0968V

15. Colleen Block, St. Louis, Missouri, Court of Federal Claims No: 19-0969V

16. Tiffany Adams on behalf of K.A. Stanford, Kentucky, Court of Federal Claims No: 19-0970V

17. Patrick Potter, San Jose, California, Court of Federal Claims No: 19-0971V

18. Janeen Brady and Michael Brady on behalf of S.B., New York, New York, Court of Federal Claims No: 19-0973V

19. Jennifer Panattoni, Park Ridge, Illinois, Court of Federal Claims No: 19-0975V

20. Elisha C. Navarro on behalf of D.A.N.B., San Diego, California, Court of Federal Claims No: 19-0976V

21. Amy Phillips-Bell, St. Louis, Missouri Court of Federal Claims No: 19-0977V

22. John J. Samluk, Wilmington, Delaware, Court of Federal Claims No: 19-0979V

23. Lisa Day, Phoenix, Arizona Court of Federal Claims No: 19-0980V

24. Rebecca Cary, Eureka, California, Court of Federal Claims No: 19-0981V

25. Nicole W. Pelly, Coeur d'Alene, Idaho Court of Federal Claims No: 19-0982V

26. Jeanne M. Miske, Oakdale, Minnesota, Court of Federal Claims No: 19-0983V

27. Lynn Jones, Calvert City, Kentucky Court of Federal Claims No: 19-0984V

28. Heather Miller on behalf of L.M., Kansas City, Missouri, Court of Federal Claims No: 19-0985V

29. Lauretta Prague on behalf of Alexander Prague, Stony Brook, New York, Court of Federal Claims No: 19-0986V

30. Holley Hartley, Plano, Texas, Court of Federal Claims No: 19-0990V

31. Mary Katherine Scallion, Marietta, Georgia, Court of Federal Claims No: 19-0992V

32. Gretchen Corey, Glendale, Arizona, Court of Federal Claims No: 19-0993V

33. Christine Larsen, St. Charles, Illinois, Court of Federal Claims No: 19-0995V

34. Maureen Fagan, South Weymouth, Massachusetts, Court of Federal Claims No: 19-0997V

35. Eleanor Gray, Scottsdale, Arizona, Court of Federal Claims No: 19-0998V

36. Darla Neeley, Sacramento, California, Court of Federal Claims No: 19-0999V

37. Sarina Vito, Washington, District of Columbia, Court of Federal Claims No: 19-1001V

38. Gretchen Eaton, Washington, District of Columbia, Court of Federal Claims No: 19-1002V

39. Jennifer Hunt, Statesville, North Carolina, Court of Federal Claims No: 19-1003V

40. Jason Rosenberg, San Francisco, California, Court of Federal Claims No: 19-1004V

41. Michael King, Columbia, South Carolina, Court of Federal Claims No: 19-1005V

42. William Gregory Schilder, Phoenix, Arizona, Court of Federal Claims No: 19-1006V

43. Stacia Parnell, Dayton, Tennessee, Court of Federal Claims No: 19-1009V

44. Kathy Wimmler, Denver, Colorado, Court of Federal Claims No: 19-1010V

45. Sandra Botta, Beverly, Massachusetts, Court of Federal Claims No: 19-1011V

46. Kathleen Budde, Florence, South Carolina, Court of Federal Claims No: 19-1012V

47. Gladys Cody, Coeur d'Alene, Idaho, Court of Federal Claims No: 19-1013V

48. Scott A. Hoerth, Middleton, Wisconsin, Court of Federal Claims No: 19-1016V

49. Sherry Leighton-Herrmann, Depoe Bay, Oregon, Court of Federal Claims No: 19-1018V

50. Carolyn McCormick, York, South Carolina, Court of Federal Claims No: 19-1023V

51. Frederick D. McBeth, Hedrick, Iowa, Court of Federal Claims No: 19-1025V

52. Patrick McRae, Craigsville, Virginia, Court of Federal Claims No: 19-1026V

53. Hope Paider on behalf of E.O., De Pere, Wisconsin, Court of Federal Claims No: 19-1027V

54. Natalie Litrun, Pittsburgh, Pennsylvania, Court of Federal Claims No: 19-1029V

55. Javier Jimenez-Rosas, El Cajon, California, Court of Federal Claims No: 19-1030V

56. Bilinda Anderson, Nottingham, Maryland, Court of Federal Claims No: 19-1031V

57. Evonne Callaghan on behalf of K.B., Barbourville, Kentucky, Court of Federal Claims No: 19-1032V

58. Keanu Mitchell, Queens, New York, Court of Federal Claims No: 19-1034V

59. James L. Johnson, Sr., Turbeville, South Carolina, Court of Federal Claims No: 19-1035V

60. Bettina Lynn Sinicki and Timothy M. Sinicki on behalf of A.S., New York, New York, Court of Federal Claims No: 19-1037V

61. Margrit Nigro, Hamburg, New Jersey, Court of Federal Claims No: 19-1039V

62. Giovanni Policicchio, Birmingham, Alabama, Court of Federal Claims No: 19-1040V

63. Renee Brockman, Kennewick, Washington, Court of Federal Claims No: 19-1041V

64. David Epperson, Lexington, Kentucky, Court of Federal Claims No: 19-1042V

65. Karen Hoisington, Littleton, Colorado, Court of Federal Claims No: 19-1043V

66. Lee Ann Wellerritter, Washington, District of Columbia, Court of Federal Claims No: 19-1044V

67. Charles Silvestri, Port Jefferson, New York, Court of Federal Claims No: 19-1045V

68. Gil Hong on behalf of E.K., Englewood Cliffs, New Jersey, Court of Federal Claims No: 19-1046V

69. Darrel Laurette, Omaha, Nebraska, Court of Federal Claims No: 19-1047V

70. Lauretta Allner, Sioux City, Iowa, Court of Federal Claims No: 19-1048V

71. Catherine Price, Union Grove, Wisconsin, Court of Federal Claims No: 19-1049V

72. Isabella Acosta, Orchard Park, New York, Court of Federal Claims No: 19-1050V

73. Barbara Turner on behalf of Harry Turner, Washington, District of Columbia, Court of Federal Claims No: 19-1051V

74. Ashley N. Israelsen, Lafayette, Colorado, Court of Federal Claims No: 19-1052V

75. Karen Yaeck, New Bern, North Carolina, Court of Federal Claims No: 19-1053V

76. Deirdre Maguire, Lebanon, New Hampshire, Court of Federal Claims No: 19-1054V

77. Susan Fausnaugh, Wadsworth, Ohio, Court of Federal Claims No: 19-1056V

78. Joshua Tell, Bloomington, Illinois, Court of Federal Claims No: 19-1057V

79. Misahel Avila, Duarte, California, Court of Federal Claims No: 19-1058V

80. Marilyn Merkin, San Francisco, California, Court of Federal Claims No: 19-1061V

81. Andrew Janquitto, Towson, Maryland, Court of Federal Claims No: 19-1062V

82. Eric Scott, Juneau, Alaska, Court of Federal Claims No: 19-1066V

83. Courtney Peavey, Houston, Texas, Court of Federal Claims No: 19-1068V

84. Lisa Kaiser, Huron, South Dakota, Court of Federal Claims No: 19-1069V

85. Douglas Bell, Chapel Hill, North Carolina, Court of Federal Claims No: 19-1070V

86. Debra Kasper, St. Cloud, Minnesota, Court of Federal Claims No: 19-1071V

87. Virgil Topham, Washington, District of Columbia, Court of Federal Claims No: 19-1072V

88. Lloyd Scott, Washington, District of Columbia, Court of Federal Claims No: 19-1073V

89. Lorri Palka, Washington, District of Columbia, Court of Federal Claims No: 19-1074V

90. Brianna Loughry, Washington, District of Columbia, Court of Federal Claims No: 19-1075V

91. Andre LeBlanc, Cumberland, Rhode Island, Court of Federal Claims No: 19-1076V

92. Angeline Fletcher, Dallas, Texas, Court of Federal Claims No: 19-1079V

93. Jennifer Valencia, Winterset, Iowa, Court of Federal Claims No: 19-1080V

94. Brian Behrens, Washington, District of Columbia, Court of Federal Claims No: 19-1081V

95. Shana Burch, Gainesville, Florida, Court of Federal Claims No: 19-1084V

96. Heather Marie Lambert and John Richard Wright on behalf of G.W. Henderson, Kentucky, Court of Federal Claims No: 19-1087V

97. Chester Bircheat, Washington, District of Columbia, Court of Federal Claims No: 19-1088V

98. Maria Diminno on behalf of Pasquale Diminno, Deceased, Washington, District of Columbia, Court of Federal Claims No: 19-1089V

99. Shirley Ozio, Washington, District of Columbia, Court of Federal Claims No: 19-1090V

100. Careen Lomago on behalf of D.L. Washington, Pennsylvania, Court of Federal Claims No: 19-1092V

101. Nancy Blandford, Tucson, Arizona, Court of Federal Claims No: 19-1096V

102. Basem Alsaadeh, San Bernardino, California, Court of Federal Claims No: 19-1097V

103. Richard P. Johnson, Ellisville, Missouri, Court of Federal Claims No: 19-1098V

104. Anthony Norman, Milwaukee, Wisconsin, Court of Federal Claims No: 19-1099V

105. Barbara Hill, Amherst, New York, Court of Federal Claims No: 19-1100V

106. Brenda McBride, Miami, Florida, Court of Federal Claims No: 19-1101V

107. Peter D. Burke, Rochester, New York, Court of Federal Claims No: 19-1102V

108. Bridget Morrison-Langehough, Colchester, Vermont, Court of Federal Claims No: 19-1103V

109. Edward Sand, Fort Morgan, Colorado, Court of Federal Claims No: 19-1104V

110. Jeremey Morgan, North Las Vegas, Nevada, Court of Federal Claims No: 19-1105V

111. Kimberly Hartman, Manning, South Carolina, Court of Federal Claims No: 19-1106V

112. Sandra Boyd, Ojai, California, Court of Federal Claims No: 19-1107V

113. Scott Reynolds, Tawas City, Michigan, Court of Federal Claims No: 19-1108V

114. Stacy Smith, Kahoka, Missouri, Court of Federal Claims No: 19-1109V

115. Victoria Edens, Indianapolis, Indiana, Court of Federal Claims No: 19-1110V

116. Deborah Kelley, Cleves, Ohio, Court of Federal Claims No: 19-1111V

117. Nicole Harder on behalf of J.A.H., Richmond, Virginia, Court of Federal Claims No: 19-1114V

118. Evon Johnson, Westchester, Illinois, Court of Federal Claims No: 19-1117V

119. Susan Watson, Thousand Oaks, California, Court of Federal Claims No: 19-1118V

[FR Doc. 2019-18304 Filed 8-23-19; 8:45 am]

BILLING CODE 4165-15-P